DEPARTMENT OF COMMERCE

Foreign-Trade Zones Board

[S-83-2018]

Foreign-Trade Zone 38—Spartanburg County, South Carolina; Application for Subzone; Black & Decker, Inc.; Fort Mill, South Carolina

An application has been submitted to the Foreign-Trade Zones Board (the Board) by the South Carolina State Ports Authority, grantee of FTZ 38, requesting subzone status for the facility of Black & Decker, Inc., located in Fort Mill, South Carolina. The application was submitted pursuant to the provisions of the Foreign-Trade Zones Act, as amended (19 U.S.C. 81a-81u), and the regulations of the Board (15 CFR part 400). It was formally docketed on May 30, 2018.

The proposed subzone (19 acres) is located at 4260 Pleasant Road, Fort Mill, South Carolina. Black & Decker indicates that it will conduct the same activity as currently authorized by the FTZ Board at its Subzone 38E. No additional authorization for production activity has been requested at this time. The proposed subzone would be subject to the existing activation limit of FTZ 38.

In accordance with the Board's regulations, Qahira El-Amin of the FTZ Staff is designated examiner to review the application and make recommendations to the Executive Secretary.

Public comment is invited from interested parties. Submissions shall be addressed to the Board's Executive Secretary at the address below. The closing period for their receipt is July 16, 2018. Rebuttal comments in response to material submitted during the foregoing period may be submitted during the subsequent 15-day period to July 31, 2018.

A copy of the application will be available for public inspection at the Office of the Executive Secretary, Foreign-Trade Zones Board, Room 21013, U.S. Department of Commerce, 1401 Constitution Avenue NW, Washington, DC 20230-0002, and in the “Reading Room” section of the Board's website, which is accessible via www.trade.gov/ftz.

For further information, contact Qahira El-Amin at Qahira.El-Amin@trade.gov or (202) 482-5928.

Dated: May 30, 2018.
Andrew McGilvray,
Executive Secretary.

[FR Doc. 2018-12145 Filed 6-5-18; 8:45 am]

BILLING CODE 3510-DS-P